DEPARTMENT OF HOUSING AND URBAN DEVELOPMENT

[Docket No. FR-7103-N-03; OMB Control No.: 2528-0324]

60-Day Notice of Proposed Information Collection: Data Collection for the HUD Secretary's Awards

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 10, 2026.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Heidi Joseph, Department of Housing and Urban Development, 451 7th Street SW, Room 8110, Washington, DC 20410. Comments may also be submitted via email to PDRPublicComments@hud.gov.

FOR FURTHER INFORMATION CONTACT: Heidi Joseph, Director of the Research Utilization Division, Department of Housing and Urban Development, 451 7th Street SW, Washington, DC 20410; email Heidi Joseph at PDRPublicComments@hud.gov, 202-402-2016. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Heidi Joseph.

SUPPLEMENTARY INFORMATION: This notice informs the public that HUD is seeking approval from OMB for the information collection described in Section A.

A. Overview of Information Collection

Title of Information Collection: Data Collection for the HUD Secretary's Awards.

OMB Approval Number: 2528-0324.

Type of Request: Revision of currently approved collection.

Form Number: None.

Description of the Need for the Information and Proposed Use: The U.S. Department of Housing and Urban Development (HUD) seeks to collect information that will be used to implement the HUD Secretary's Awards program. On an annual basis, HUD accepts nominations for various HUD Secretary's Awards categories. Each award recognizes awardees for their innovation and commitment to raising industry standards and increasing the quality of life for low- and moderate-income households. The HUD Secretary's Awards are an important public engagement activity that highlights best practices and innovations in the field and helps HUD communicate its priorities to the public and its partners. HUD will receive award nominations using an application form, with information collection via web-based forms or email submissions.

Respondents: Respondents are eligible applicants for the HUD Secretary's Awards. Eligible applicants include individuals and organizations such as public housing authorities, tribally-designated housing entities, developers, community organizations, faith-based organizations, foundations, and other entities that work in housing and community development.

Estimated Number of Respondents: 150 respondents.

Estimated Number of Responses: 150 responses.

Frequency of Response: 1 response/year.

Average Hours per Response: 6 hours.

Total Estimated Burdens: 900 hours/year, $20,376/year.

Information collection | Number of respondents | Frequency of response | Responses per annum | Burden hour per response | Annual burden hours | Hourly cost per response | Annual cost
HUD Secretary's Award Nomination Form | 150 | 1 | 150 | 6 | 900 | $22.64 | $20,376

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Todd M. Richardson,
General Deputy Assistant Secretary for Policy Development and Research.

[FR Doc. 2026-00283 Filed 1-8-26; 8:45 am]

BILLING CODE 4210-67-P